DEPARTMENT OF COMMERCE

Economics and Statistics Administration

Bureau of Economic Analysis

BEA Customer Satisfactions Survey

ACTION: Proposed information collection.

SUMMARY: The purpose of the BEA Customer Satisfaction Survey is to obtain feedback from customers on the quality of BEA products and services. The information collected is instrumental in allowing BEA to improve the quality of its data products and its methods of data dissemination.

DATES: The survey will be mailed out on May 24, 2005, and posted to the BEA home page on June 3, 2005.

FOR FURTHER INFORMATION CONTACT: Requests for additional information or for copies of the information collection instrument and instructions should be directed to James Murphy, U.S. Department of Commerce, Bureau of Economic Analysis, BE-64, Washington, DC 20230, or by telephone at 202-606-2787.

SUPPLEMENTARY INFORMATION:

I. Abstract

As one of the Nation's leading statistical agencies, the Bureau of Economic Analysis (BEA) provides reliable and consistent measures of economic activity that are essential to intelligent decisionmaking by business people and policymakers and to the efficient operation of financial markets. The purpose of the BEA Customer Satisfaction Survey is to obtain feedback from customers on the quality of BEA products and services. The information collected will assist BEA in improving the quality of its data products and its methods of data dissemination.

II. Method of Collection

The survey and a cover letter with instructions on how to complete it will be mailed to about 5,000 potential respondents; BEA will request that responses be returned 30 days after the mailing. The survey will also be posted on BEA's Web site for 2,000 potential respondents. It is designed to ensure anonymity for all respondents and therefore eliminates the necessity for recordkeeping of respondents.

III. Data

OMB Control Number: 0691-0001.

Affected Public: Individuals from for profit and non profit organizations and individuals from other Federal, State, and local government agencies.

Estimated Number of Respondents: 500.

Estimated Response Time: 15 minutes.

Estimated Total Annual Burden Hours: 125.

Estimated Total Annual Cost: The only cost to the respondents is that of their time.

Legal Authority: Executive Order 12862, Section 1(b), of September 11, 1993.

Dated: March 8, 2005.
J. Steven Landefeld,
Director, Bureau of Economic Analysis.

[FR Doc. 05-4992 Filed 3-14-05; 8:45 am]

BILLING CODE 3510-06-M